DEPARTMENT OF COMMERCE

International Trade Administration

[A-533-883]

Glycine From India: Final Results of Antidumping Duty Administrative Review; 2018-2020

AGENCY: Enforcement and Compliance, International Trade Administration, Department of Commerce.

SUMMARY: The Department of Commerce (Commerce) finds that producers or exporters subject to this administrative review made sales of subject merchandise below normal value during the period of review October 31, 2018, through May 31, 2020.

DATES: Applicable November 10, 2021.

FOR FURTHER INFORMATION CONTACT: Preston Cox or Yang Jin Chun, AD/CVD Operations, Office VI, Enforcement and Compliance, International Trade Administration, U.S. Department of Commerce, 1401 Constitution Avenue NW, Washington, DC 20230; telephone: (202) 482-5041 or (202) 482-5760, respectively.

SUPPLEMENTARY INFORMATION:

Background

On July 7, 2021, Commerce published the Preliminary Results of the 2018-2020 administrative review of the antidumping duty order on glycine from India.¹ For a complete description of the events that followed the Preliminary Results, see the Issues and Decision Memorandum.² Commerce conducted this administrative review in accordance with section 751 of the Tariff Act of 1930, as amended (the Act).

¹ See Glycine from India: Preliminary Results of Antidumping Duty Administrative Review; 2018-2020, 86 FR 35733 (July 7, 2021) (Preliminary Results), and accompanying Preliminary Decision Memorandum (PDM).

² See Memorandum, “Glycine from India: Issues and Decision Memorandum for Final Results of Antidumping Duty Administrative Review; 2018-2020,” dated concurrently with, and hereby adopted by, this notice (Issues and Decision Memorandum).

Scope of the Order

The merchandise subject to the order is glycine. For a complete description of the scope of this administrative review, see the Issues and Decision Memorandum.³

³ See Issues and Decision Memorandum at 2-3.

Analysis of Comments Received

All issues raised in the case and rebuttal briefs filed by interested parties in this review are discussed in the Issues and Decision Memorandum. The Issues and Decision Memorandum is a public document and is made available to the public via Enforcement and Compliance's Antidumping and Countervailing Duty Centralized Electronic Service System (ACCESS). ACCESS is available to registered users at http://access.trade.gov. In addition, a complete version of the Issues and Decision Memorandum can be found at https://access.trade.gov/public/FRNoticesListLayout.aspx. A list of the topics included in the Issues and Decision Memorandum is attached as an appendix to this notice.

Changes Since the Preliminary Results

Based on a review of the record and our analysis of the comments received from interested parties regarding our Preliminary Results, and for the reasons explained in the Issues and Decision Memorandum, we did not make changes to the Preliminary Results.

Rates for Non-Selected Respondents

The statute and Commerce's regulations do not address the establishment of a rate to be applied to companies not selected for examination when Commerce limits its examination in an administrative review pursuant to section 777A(c)(2) of the Act. Generally, Commerce looks to section 735(c)(5) of the Act, which provides instructions for calculating the all-others rate in a market economy investigation, for guidance when calculating the rate for companies which were not selected for individual examination in an administrative review. For the respondents that were not selected for individual examination in this administrative review, we have assigned to them the simple average of the margins for Avid Organics Private Limited and Kumar Industries/Rudraa International,⁴ consistent with the guidance in section 735(c)(5)(B) of the Act.⁵

⁴ We continue to treat Kumar Industries and Rudraa International as a collapsed single entity for the final results of this review. See Preliminary Results, 86 FR at 35734, and accompanying PDM at 3-4.

⁵ See Issues and Decision Memorandum for more details.

Final Results of Review

We determine that the following estimated weighted-average dumping margins exist for the period October 31, 2018, through May 31, 2020.

Producer/exporter | Estimated weighted- average dumping margin (percent)
Avid Organics Private Limited | 0.00
Kumar Industries/Rudraa International | 13.61
Mulji Mehta Enterprises | 6.81
Mulji Mehta Pharma | 6.81
Paras Intermediates Private Ltd | 6.81
Studio Disrupt | 6.81

Disclosure

Normally, Commerce discloses the calculations performed in connection with the final results of an administrative review to parties in the proceeding within five days of any public announcement or, if there is no public announcement, within five days of the date of publication of the notice of final results in the Federal Register, in accordance with 19 CFR 351.224(b). However, as noted above, Commerce has made no changes to its margin calculations since the Preliminary Results. Commerce disclosed its preliminary margin calculations to parties in this proceeding, and there are no additional calculations to disclose.⁶

⁶ See Memorandums, “Administrative Review of the Antidumping Duty Order on Glycine from India; 2018-2020: Preliminary Analysis Memorandum for Avid Organics Private Limited,” dated June 30, 2021 and “Glycine from India: Preliminary Application of Adverse Facts Available to Kumar Industries,” dated June 30, 2021.

Assessment Rates

Pursuant to section 751(a)(2)(C) of the Act, and 19 CFR 351.212(b)(1), Commerce has determined, and U.S. Customs and Border Protection (CBP) shall assess, antidumping duties on all appropriate entries of subject merchandise in accordance with the final results of this review. For any individually-examined respondent whose weighted-average dumping margin is above de minimis (i.e., 0.50 percent), we will calculate importer-specific assessment rates on the basis of the ratio of the total amount of antidumping duties calculated for each importer's examined sales and the total entered value of the sales, in accordance with 19 CFR 351.212(b)(1).⁷ Where either a respondent's weighted-average dumping margin is zero or de minimis, or an importer-specific assessment rate is zero or de minimis, we will instruct CBP to liquidate appropriate entries without regard to antidumping duties.⁸ For entries of subject merchandise during the period of review produced by any of these companies for which it did not know its merchandise was destined for the United States, we will instruct CBP to liquidate such entries at the all-others rate if there is no rate for the intermediate company(ies) involved in the transaction.⁹

⁷ See Antidumping Proceedings: Calculation of the Weighted-Average Dumping Margin and Assessment Rate in Certain Antidumping Proceedings: Final Modification, 77 FR 8101, 8103 (February 14, 2012).

⁸ Id. at 8102-03; see also 19 CFR 351.106(c)(2).

⁹ See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication). The final results of this administrative review shall be the basis for the assessment of antidumping duties on entries of merchandise under review and for future cash deposits of estimated antidumping duties, where applicable.

Cash Deposit Requirements

The following cash deposit requirements will be effective upon publication in the Federal Register of the notice of these final results of administrative review for all shipments of glycine from India entered, or withdrawn from warehouse, for consumption on or after the date of publication as provided by section 751(a)(2) of the Act: (1) The cash deposit rate for companies subject to this review will be equal to the company-specific weighted-average dumping margin established in the final results of the review; (2) for merchandise exported by a company not covered in this review but covered in a prior segment of the proceeding, the cash deposit rate will continue to be the company-specific rate published in the completed segment for the most recent period; (3) if the exporter is not a firm covered in this review, a prior review, or the original investigation but the producer is, the cash deposit rate will be the rate established in the completed segment for the most recent period for the producer of the merchandise; (4) the cash deposit rate for all other producers or exporters will continue to be 7.23 percent, the all-others rate established in the less-than-fair-value investigation, adjusted for the export-subsidy rate in the companion countervailing duty investigation.¹⁰ These cash deposit requirements, when imposed, shall remain in effect until further notice.

¹⁰ See Glycine from India and Japan: Amended Final Affirmative Antidumping Duty Determination and Antidumping Duty Orders, 84 FR 29170, 29171 (June 21, 2019).

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing these results in accordance with sections 751(a)(1) and 777(i)(1) of the Act, and 19 CFR 351.221.

Dated: November 4, 2021.
Ryan Majerus,
Deputy Assistant Secretary for Policy and Negotiations, performing the non-exclusive functions and duties of the Assistant Secretary for Enforcement and Compliance.

Appendix—List of Topics Discussed in the Issues and Decision Memorandum

I. Summary

II. Background

III. Scope of the Order

IV. Discussion of the Issues

Comment 1: Application of Total Adverse Facts Available

Comment 2: Use of Constructed Value To Calculate Normal Value

Comment 3: Application of Total Adverse Facts Available

Comment 4: Selection of the Adverse Facts Available Rate

Comment 5: Voluntary Respondent Request for Paras

V. Recommendation

[FR Doc. 2021-24579 Filed 11-9-21; 8:45 am]

BILLING CODE 3510-DS-P